SMALL BUSINESS ADMINISTRATION

Small Business Information Security Task Force; Request for Nominations

AGENCY: U.S. Small Business Administration (SBA).

ACTION: Request for nominations.

SUMMARY: On May 22, 2009, Public Law 111-24 was signed by the President establishing, among other things, a Small Business Information Security Task Force. This task force was established to address the information technology security needs of small businesses and to help small businesses prevent the loss of credit card data. SBA is now requesting nominations for members of this task force.

DATES: Submit nominations on or before 5 p.m. EST October 16, 2009 per the instructions below.

FOR FURTHER INFORMATION CONTACT: Any member of the public wishing further information regarding this request for nominations may contact Jack Bienko, via telephone (202) 205-6052, fax (202) 481-2636, e-mail john.bienko@sba.gov or mail U.S. Small Business Administration, 409 3rd Street, SW., 6th Floor, Washington, DC 20416.

SUPPLEMENTARY INFORMATION: SBA is requesting nominations for the Small Business Information Security Task Force. SBA encourages all qualified candidates to apply. Candidates may self-nominate or be nominated by another source.

Function of the Task Force

This task force was established by section 507 of Public Law 111-24 to assess the information security needs of small business concerns, including the programs and services currently available, and make recommendations to SBA as to new programs and services which will help small businesses address those concerns. Specifically, the task force shall:

1. Identify the information technology security needs of small business concerns,

2. Identify and assess the programs and services provided by Federal and State governments and non-government organizations which serve the information technology security needs of small business concerns,

3. Make recommendations to SBA on how to more effectively serve small business information technology security needs through the creation of new Federal programs and services, small business education and training, or more effective marketing of existing programs,

4. Make recommendations on how SBA can better inform and educate small businesses on information technology security concerns, including use of the Internet,

5. Assess and recommend whether a permanent advisory board should be created,

6. Provide SBA with a comprehensive list of Internet sites containing appropriate and relevant information on small business information technology security needs of which SBA should link, and

7. Prepare a final report with recommendations for SBA, which will be submitted to Congress.

Qualifications

From the nominations received, the SBA Administrator will appoint a Chair and Vice Chair of the task force. The Administrator will then work with the Chair to appoint up to 13 additional members; at least one from each of the following categories who will serve as representatives of their respective constituency:

1. Subject matter experts,

2. Users of information technology within small business concerns,

3. Vendors of information technologies for small business concerns,

4. Academics with expertise in the use of information technologies to support business,

5. Small business trade associations,

6. Federal, state or local agencies engaged in securing cyberspace, and

7. Information technology training providers with expertise on the use of information technologies to support business.

Meetings

The entire task force will meet at least twice per year in Washington DC. Other meetings may occur via conference call.

Status

All members will be considered representatives and will not be paid for participation however the Agency will pay travel and per diem expenses while members are attending required meetings in Washington, DC.

Expectations

All task force members are expected to fully participate in the task force and come to the twice-yearly meetings in Washington DC.

What To Send

1. Letter of Nomination: nominees should send a letter of self-nomination or a letter of nomination from a peer or professional organization or society. This letter must indicate which category the nominee fulfills and highlight accomplishments, including studies, publications and professional accomplishments related to small business information technology security issues.

2. Current resume.

3. Biographical sketch (optional) no more than two pages listing areas of expertise related to information technology security and small business, research activities, service on other Federal advisory committees and professional organizations.

4. Nomination Form: Nominees must complete and sign SBA Form 898 (available at http://www.sba.gov/nac).

All nominees are subject to a conflict of interest determination by SBA and will not be considered eligible until such determination is made. Nominations must be sent to Jack Bienko at the above information. E-mail and fax are preferred methods of submission.

Dated: September 25, 2009.
Penny Pickett,
Associate Administrator for Entrepreneurial Development.

[FR Doc. E9-23538 Filed 9-29-09; 8:45 am]

BILLING CODE 8025-01-P